DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans that are final within the meaning of 23 U.S.C. 139(l)(1). The actions relate to a proposed highway project, widen and seismically retrofit the existing Riverside Drive Bridge (53C-1298), located south of the junction of Victory Boulevard, Sonora Avenue and Riverside Drive; and north of Zoo Drive in the Hollywood Community Planning Area in the City and County of Los Angeles, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before May 14, 2015 If the Federal law that authorizes judicial review of a claim provides a time period of less than 150 days for filing such claim, then that shorter time period still applies.

FOR FURTHER INFORMATION CONTACT: For Caltrans: Tami Podesta, Branch Chief, Division of Environmental Planning, California Department of Transportation, 100 South Main Street, Los Angeles, California, 90275, Regular Office Hours M-F 8:00 a.m.-5:00 p.m., Phone Number (213) 897-0309, Email tami_podesta@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following highway project in the State of California: The City of Los Angeles and the California Department of Transportation propose to widen and seismically retrofit the existing Riverside Drive Bridge (53C-1298), located south of the junction of Victory Boulevard, Sonora Avenue and Riverside Drive; and north of Zoo Drive in the Hollywood Community Planning Area of the City and County of Los Angeles. The project would include widening and rehabilitating the existing four-lane bridge to correct existing geometrical design deficiencies, address seismic vulnerabilities, and improve pedestrian and bicycle travel; BHLS- 5006 (205). The actions by the Federal agencies, and the laws under which such actions were taken, are described in the Environmental Assessment (EA) for the project, approved on May 7, 2013, in the FHWA Finding of No Significant Impact issued on August 29,2013, and in other documents in the FHWA project records. The EA, FONSI and other project records are available by contacting Caltrans at the addresses provided above. The Caltrans EA and FONSI can be viewed and downloaded from the project Web site at http://www.dot.ca.gov/dist07/resources/envdocs/docs/Riverside_Drive_Bridge_Final_IS-EA_APPROVED.pdf.

This notice applies to all Federal agency decisions as of the issuance date of this notice and all laws under which such actions were taken, including but not limited to:

1. General: The National Environmental Policy Act (NEPA) (42 U.S.C. 4321-4351)

2. Safe, Accountable, Flexible and Efficient, Transportation Equity Act, A Legacy for Users (SAFETEA-LU)

3. MAP 21- Moving Ahead for Progress in the 21st Century

4. US Army Corps of engineers (USACE)- Section 404 and Section 408

5. US Fish and Wildlife Service (USFWS)- Section 7

6. State Historic Preservation Office-Section 106 (MOA)

7. Title VI of the Civil Rights Act of 1964

(Catalog of Federal Domestic Assistance Program Number 20.205, Highway Planning and Construction. The regulations implementing Executive Order 12372 regarding intergovernmental consultation on Federal programs and activities apply to this program.)

Authority: 23 U.S.C. 139(l)(1)

Issued on: December 4, 2014.
Tami Podesta,
Senior Environmental Planner, California Department of Transportation.

[FR Doc. 2014-29238 Filed 12-12-14; 8:45 am]

BILLING CODE 4910-RY-P